DEPARTMENT OF TRANSPORTATION

Federal Aviation Administration

[Docket No. FAA-2015-0693]

Recommendations for Facilities Realignments To Support Transition to NextGen as Part of Section 804 of the FAA Modernization and Reform Act of 2012; Request for Comments

AGENCY: Federal Aviation Administration (FAA), Department of Transportation (DOT).

ACTION: Notice of availability; request for comments.

SUMMARY: This document announces the availability of the FAA National Facilities Realignment and Consolidation Report, Year 1 Part 1. The report was developed in response to Section 804 of the FAA Modernization and Reform Act of 2012 (Pub. L. 112-95). The report and recommendations contained therein have been developed collaboratively with the National Air Traffic Controllers Association (NATCA) and the Professional Aviation Safety Specialists (PASS) Labor Unions and with input from stakeholders. The FAA seeks comments on this report.

DATES: Send comments on or before May 11, 2015.

ADDRESSES: Send comments identified by docket number FAA-2015-0693 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or visit Docket Operations in Room W12-140 of the West Building Ground Floor at 1200 New Jersey Avenue SE., Washington, DC, between 9 a.m. and 5 p.m., Monday through Friday, except Federal holidays.

FOR FURTHER INFORMATION CONTACT: Martha Christie, Future Facilities Group Manager, AJW-2A, Federal Aviation Administration, 800 Independence Avenue SW., Washington, DC 20591; email: Section804-Public-Comments@faa.gov.

SUPPLEMENTARY INFORMATION:

Background

Section 804 of the FAA Modernization and Reform Act of 2012 (Pub. L. 112-95) requires the FAA to develop a plan for realigning and consolidating facilities in an effort to support the transition to NextGen and reduce costs where such cost reductions can be implemented without adversely affecting safety. To address Section 804 requirements, the FAA formed a collaborative workgroup of representatives from the FAA and NATCA and PASS Labor Unions to develop a comprehensive process to analyze different realignment and consolidation scenarios. The collaborative process takes into account the following factors and criteria when prioritizing facilities for realignment analysis: NextGen readiness; the Terminal Automation program schedule; operational and airspace factors; existing facility conditions and workforce needs; industry stakeholder input; and the costs and benefits associated with each potential realignment alternative.

In 2014, the collaborative workgroup initiated activities to evaluate existing Terminal Radar Approach Control (TRACON) facilities and prioritize them for annual analysis; develop an initial set of realignment scenarios and define alternatives for each scenario; collect facility and operational data, and document system requirements; document facility, equipment, infrastructure, operational and safety data; capture qualitative workforce considerations, including training, transition, facility, and potential workforce impacts of potential realignments; consider potential impacts on operations, airspace modifications, route/fixes changes, arrival/departure procedures, intra/inter-facility coordination, and aviation community interaction; collect and consider industry stakeholder inputs; document and quantify benefits and cost of potential realignments; and develop a recommendation for each realignment scenario. The recommendations for the first two scenarios analyzed by the Section 804 collaborative workgroup are contained in the report entitled “FAA National Facilities Realignment and Consolidation Report Year 1, Part 1 Recommendations,” a copy of which has been placed in the docket for this notice. The docket may be accessed at http://www.regulations.gov. A copy of the report has also been made available on the FAA's Web site at http://www.faa.gov/regulations_policies/rulemaking/recently_published/.

The realignment recommendations outlined in the Year 1 Part 1 report are the result of a collaborative process that involved a multi-disciplinary team of FAA subject matter experts, financial analysts, operational experts, and Labor and FAA leadership participants. The Section 804 process serves as a stable foundation for future realignment analyses and recommendations. The process aims to maximize operational, administrative, and maintenance efficiencies and deliver the highest value to stakeholders.

The FAA is requesting comments on this report pursuant to Section 804 of the FAA Modernization and Reform Act of 2012. The agency will consider all comments received on or before May 11, 2015. Following a 60-day comment review period, the final report along with public comments will be submitted to Congress. The FAA continues to analyze data collected from facilities across the United States and evaluate possible realignment scenarios. The FAA will make its next recommendations when it submits Part 2 of the report in mid-2015.

Issued in Washington, DC, on March 20, 2015.
Martha Christie,
Future Facilities Group Manager.

[FR Doc. 2015-06897 Filed 3-25-15; 8:45 am]

BILLING CODE 4910-13-P